DEPARTMENT OF THE INTERIOR

Bureau of Land Management

[LLCAD01000 L13400000.PQ 0000]

Meeting of the California Desert District Advisory Council

SUMMARY: Notice is hereby given, in accordance with Public Laws 92-463 and 94-579, that the California Desert District Advisory Council (DAC) to the Bureau of Land Management (BLM), U.S. Department of the Interior, will participate in a field tour of BLM-administered public lands on Friday, September 26, 2014 from 8:30 a.m. to 4:30 p.m. and will meet in formal session on Saturday, September 27, 2014 from 8:00 a.m. to 4:30 p.m. in Pahrump, NV at the Saddle West Hotel, 1220 S. HWY 160, Pahrump, NV 89048. Agenda for the Saturday meeting will include updates by council members, the BLM California Desert District Manager, five Field Managers, and council subgroups. Final agenda items for the field trip and public meeting will be posted on the DAC Web page at http://www.blm.gov/ca/st/en/info/rac/dac.html when finalized.

SUPPLEMENTARY INFORMATION: All DAC meetings are open to the public. Public comment for items not on the agenda will be scheduled at the beginning of the meeting Saturday morning. Time for public comment may be made available by the council chairman during the presentation of various agenda items, and is scheduled at the end of the meeting for topics not on the agenda.

While the Saturday meeting is tentatively scheduled from 8:00 a.m. to 4:30 p.m., the meeting could conclude prior to 4:30 p.m. should the council conclude its presentations and discussions. Therefore, members of the public interested in a particular agenda item or discussion should schedule their arrival accordingly.

Written comments may be filed in advance of the meeting for the California Desert District Advisory Council, c/o Bureau of Land Management, External Affairs, 22835 Calle San Juan de Los Lagos, Moreno Valley, CA 92553. Written comments also are accepted at the time of the meeting and, if copies are provided to the recorder, will be incorporated into the minutes.

FOR FURTHER INFORMATION CONTACT: Stephen Razo, BLM California Desert District External Affairs, (951) 697-5217.

Dated: August 18, 2014.
Teresa A. Raml,
California Desert District Manager.

[FR Doc. 2014-21309 Filed 9-5-14; 8:45 am]

BILLING CODE 4310-40-P